DEPARTMENT OF THE TREASURY

Submission for OMB Review; Comment Request

May 13, 2004.

The Department of the Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

DATES: Written comments should be received on or before June 21, 2004 to be assured of consideration.

Internal Revenue Service (IRS)

OMB Number: 1545-1013.

Form Number: IRS Form 8612.

Type of Review: Extension.

Title: Return of Excise Tax on Undistributed Income of Real Estate Investment Trusts.

Description: Form 8612 is used by real estate investment trusts to compute and pay the excise tax on undistributed income imposed under section 4981. IRS uses the information to verify that the correct amount of tax has been reported.

Respondents: Business or other for-profit.

Estimated Number of Respondents/Recordkeeping: 20.

Estimated Burden Hours Respondent/Recordkeepers:

Recordkeeping—6 hr., 13 min.

Learning about the law or the form—1 hr., 40 min.

Preparing and sending the form to the IRS—1 hr., 52 min.

Frequency of response: On occasion.

Estimated Total Reporting/Recordkeeping Burden: 196 hours.

OMB Number: 1545-1338.

Regulation Project Number: PS-103-90 Final.

Type of Review: Extension.

Title: Election Out of Subchapter K for Producers of Natural Gas.

Description: Under section 1.761-2(d)(5)(i), gas producers subject to gas balancing agreements on the regulation's effective date are to file Form 3115 and certain additional information to obtain the Commissioner's consent to a change in method of accounting to either of the two new permissible accounting methods in the regulations.

Respondents: Business or other for-profit, individuals or households.

Estimated Number of Respondents: 10.

Estimated Burden Hours Respondent: 30 minutes.

Frequency of response: On occasion, Other (one-time only).

Estimated Total Reporting Burden: 5 hours.

Clearance Officer: Glenn P. Kirkland, (202) 622-3428, Internal Revenue Service, Room 6411-03, 1111 Constitution Avenue, NW., Washington, DC 20224.

OMB Reviewer: Joseph F. Lackey, Jr., (202) 395-7316, Office of Management and Budget, Room 10235, New Executive Office Building,Washington, DC 20503.

Lois K. Holland,
Treasury PRA Clearance Officer.

[FR Doc. 04-11494 Filed 5-20-04; 8:45 am]

BILLING CODE 4830-01-P